TENNESSEE VALLEY AUTHORITY

Sunshine Act

Agency Holding the Meeting: Tennessee Valley Authority (Meeting No. 09-01).

Time and Date: 9 a.m. (EST), February 12, 2009, TVA West Tower Auditorium, 400 West Summit Hill Drive, Knoxville, Tennessee 37902.

Status: Open.

Agenda

Old Business

Approval of minutes of December 11, 2008, Board Meeting.

New Business

1. Chairman's Report

2. Kingston Report

3. President's Report

4. Report of the Finance, Strategy, Rates, and Administration Committee

A. Retention of Net Power Proceeds

B. Modification of Financial Trading Program

C. Compensation

5. Report of the Operations, Environment, and Safety Committee

A. AREVA Settlement

B. Contracts for greater than 100 MW of Firm Power

6. Report of the Community Relations and Energy Efficiency Committee

A. Honeycomb Campground New Lease

7. Report of the Audit, Governance, and Ethics Committee

A. Delegation of authority to resolve claims

B. Selection of Board Chairman

8. Information Item

A. Authorization to Resolve Claims

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: February 5, 2009.
Maureen H. Dunn,
General Counsel and Secretary.

[FR Doc. E9-2883 Filed 2-6-09; 12:00 pm]

BILLING CODE 8120-08-P